DEPARTMENT OF THE TREASURY

Office of Thrift Supervision

[AC-33: OTS Nos. 02887 and H4651]

Athens Federal Community Bank, Athens, TN; Approval of Conversion Application

Notice is hereby given that on November 12, 2009, the Office of Thrift Supervision approved the application of Athens Federal Community Bank, Athens, Tennessee, to convert to the stock form of organization. Copies of the application are available for inspection by appointment (phone number: (202) 906-5922 or e-mail: public.info@ots.treas.gov) at the Public Reading Room, 1700 G Street, NW., Washington, DC 20552, and the OTS Southeast Regional Office, 1475 Peachtree Street, NE., Atlanta, GA 30309.

Dated: November 16, 2009.
By the Office of Thrift Supervision.
Sandra E. Evans,
Federal Register Liaison.

[FR Doc. E9-28003 Filed 11-20-09; 8:45 am]

BILLING CODE 6720-01-P